DEPARTMENT OF JUSTICE

Antitrust Division

Notice Pursuant to the National Cooperative Research and Production Act of 1993—IAP Research, Inc.

Notice is hereby given that, on October 22, 2001, pursuant to section 6(a) of the National Cooperative Research and Production Act of 1993, 15 U.S.C. 4301 et seq. (“the Act”), IAP Research, Inc. has filed written notifications simultaneously with the Attorney General and the Federal Trade Commission disclosing changes in its membership status. The notifications were filed for the purpose of extending the Act's provisions limiting the recovery of antitrust plaintiffs to actual damages under specified circumstances. Specifically, Litton Systems Inc., Poly-Scientific Division, a subsidiary of Northrop Grumman Corporation, Blacksburg, VA; Rea Magnet Wire Co., Inc., Lafayette, IN; and Quebec Metal Powders Limited, Sorel-Tracy, Quebec, CANADA have been added as parties to this venture.

No other changes have been made in either the membership or planned activity of the group research project. Membership in this group research project remains open, and IAP Research, Inc. intends to file additional written notification disclosing all changes in membership.

On July 21, 1999, IAP Research, Inc. filed its original notification pursuant to section 6(a) of the Act. The Department of Justice published a notice in the Federal Register pursuant to section 6(b) of the Act of December 14, 1999 (64 FR 69799).

The last notification was filed with the Department on June 19, 2001. A notice was published in the Federal Register pursuant to section 6(b) of the Act on July 27, 2001 (66 FR 39203).

Constance K. Robinson,
Director of Operations, Antitrust Division.

[FR Doc. 02-97 Filed 1-2-02; 8:45 am]

BILLING CODE 4410-11-M